DEPARTMENT OF TRANSPORTATION

Federal Railroad Administration

[Docket No. FRA-2023-0011]

Request for Information Regarding Uses for Used Creosote-Treated Railroad Ties

AGENCY: Federal Railroad Administration (FRA), Department of Transportation (DOT).

ACTION: Request for information (RFI).

SUMMARY: The Federal Railroad Administration is seeking information on potential uses and options for disposal or repurposing used creosote-treated railroad ties (CTRTs), which are the wooden rail crossties that support the rail track. Every year, approximately 23 million CTRTs are replaced along the nation's rail network. Because a number of FRA's grant programs fund rail infrastructure projects, which may include the replacement of worn CTRTs, understanding the options to dispose of CTRTs will assist FRA and its grantees from the implementation of FRA's grant programs and assessing the impacts of such disposition (e.g., life-cycle maintenance impacts). Depending on the responses, FRA may develop a best practices document for rail tie disposal.

DATES: Written comments on this RFI must be received on or before June 26, 2023. FRA will consider comments filed after this date to the extent practicable in the development of any potential best practices.

ADDRESSES: Comments: Comments should refer to docket number FRA-2023-0011 and be submitted at https://www.regulations.gov. Search by using the docket number and follow the instructions for submitting comments.

Instructions: All submissions must include the agency name and docket number (FRA-2023-0011) for this RFI. Please note that comments submitted online via www.regulations.gov are not immediately posted to the docket. Several business days may elapse after a comment has been submitted online before it is posted to the docket.

Privacy Act: DOT solicits comments from the public to better inform its regulatory process. DOT posts these comments, without edit, to www.regulations.gov, as described in the system of records notice, DOT/ALL- 14 FDMS, accessible through www.dot.gov/privacy. To facilitate comment tracking and response, commenters are encouraged to provide their name, or the name of their organization; however, submission of names is completely optional. Whether or not commenters identify themselves, all timely comments will be fully considered. If you wish to provide comments containing proprietary or confidential information, please contact the agency for alternate submission instructions.

Docket: For access to the docket to read comments received, please visit https://www.regulations.gov and follow the online instructions for accessing the docket.

FOR FURTHER INFORMATION CONTACT: For further information related to this RFI, please contact Michael Johnsen, Senior Advisor for Climate and Sustainability, Office of Environmental Program Management, at telephone: 202-450-8540, email: Michael.johnsen@dot.gov.

SUPPLEMENTARY INFORMATION: Crossties support the metal rails upon which trains run and the majority of them are made of creosote-treated wood. Creosote is an oil-based preservative allowing the ties to maintain a lifespan of about 30 years. There are approximately 207,000 miles of rail track in the U.S. requiring about 620 million crossties. About 23 million crossties are replaced every year. Traditionally, end of life disposal of CTRTs primarily involved burning in waste-to-energy (or energy conversion) facilities to produce electricity. However, recent changes in Environmental Protection Agency (EPA) regulations and policy limit the options for disposing CTRTs through those facilities.

Recent research points to a pyrolysis process than can recover creosote and produce a material called biochar from CTRTs. Biochar is a residue of carbon and ashes from specific burning processes of biomass, such as rail crossties, and has a number of potential uses. These uses include filtration and use as a soil amendment to improve soil quality and to reduce acidity and nutrient leaching. In addition, converting used rail crossties to biochar can also sequester carbon, providing an option to help remove carbon dioxide from the atmosphere. In the August 2020 Journal of Analytical and Applied Pyrolysis (Vol 149, August 2020, 104826), a research paper entitled “Pyrolysis of creosote-treated railroad ties to recover creosote and produce biochar” found that CTRTs pyrolyzed to 700 °C resulted in residual creosote of 0.06% by weight of the original CTRT. This residual level would meet the qualification of a soil amendment under the European Biochar Certificate as no trace metals were found. This indicates there could be potential benefits and sustainable uses for used CTRTs.

FRA manages a number of grant programs that fund rail infrastructure improvements, including the Consolidated Rail Infrastructure and Safety Improvement grant program. Those FRA-funded rail activities under these grant programs include track and tie projects that replace worn CTRTs. Understanding the disposition of worn CTRTs will assist FRA in complying with the direction in E.O. 14008 to assess the climate impacts of these grant programs, and in researching greenhouse gas emissions from rail projects.¹ This information may also provide FRA with opportunities to offer technical assistance to grantees relating to the various options to dispose of CTRTs.

¹ See also DOT's Climate Plan, available at https://www.transportation.gov/sites/dot.gov/files/2022-04/Climate_Action_Plan.pdf.

FRA is therefore seeking any information, public comment, or feedback, including information about initiatives and pilot studies, on how CTRTs could be reused or repurposed as an alternative to landfilling, including information regarding the biochar process. FRA is also interested in potential uses for CTRT-sourced biochar as well as other legal and potentially commercially viable options for used CTRTs. Where available and appropriate, FRA requests that respondents provide relevant technical information, statutory or regulatory citations, data, or other evidence to support their comments.

Interested parties are invited to submit comments to the electronic docket in response to this RFI. Please refer to the ADDRESSES section above for guidance on how to submit comments to the electronic docket.

Issued in Washington, DC.
Marlys Ann Osterhues,
Director, Office of Environmental Program Management.

[FR Doc. 2023-08689 Filed 4-24-23; 8:45 am]

BILLING CODE 4910-06-P